DEPARTMENT OF COMMERCE

National Oceanic and Atmospheric Administration

RIN 0648-XM66

Pacific Fishery Management Council; Public Meeting

AGENCY: National Marine Fisheries Service (NMFS), National Oceanic and Atmospheric Administration (NOAA), Commerce.

ACTION: Notice of public meeting.

SUMMARY: The Joint Canada-U.S. Review Panel for Pacific hake/whiting will hold a work session which is open to the public.

DATES: The Joint Canada-U.S. Review Panel will meet beginning at 9 a.m., Tuesday, February 3, 2009 and will continue through 12 p.m., Friday, February 6, 2009. The meetings will begin at 9 a.m. and end at 5:30 p.m. each day or until business for each day is completed and will adjourn at 12 noon on Friday, February 6.

ADDRESSES: The Joint Canada-U.S. Review Panel for Pacific hake/ whiting will be held at the Hotel Deca, 4507 Brooklyn Avenue N.E., Seattle WA 98105; telephone: 1-800-899-0251.

Council address: Pacific Fishery Management Council, 7700 NE Ambassador Place, Suite 101, Portland, OR 97220-1384.

FOR FURTHER INFORMATION CONTACT: Ms. Stacey Miller, NMFS Northwest Fisheries Science Center; telephone: (206) 437-5670; or Mr. John DeVore, Pacific Fishery Management Council; telephone: (503) 820-2280.

SUPPLEMENTARY INFORMATION: The purpose of the Joint Canada-U.S. Review Panel for Pacific hake/whiting is to review draft 2009 stock assessment documents and any other pertinent information for Pacific whiting, work with the Stock Assessment Team to make necessary revisions, and produce a Joint Canada-U.S. Review Panel report for use by the Council family and other interested persons for developing management recommendations for 2009 fisheries. No management actions will be decided by the Panel. The Panel(s role will be development of recommendations and reports for consideration by the Council at its March meeting in Seattle, WA.

Although non-emergency issues not contained in the meeting agenda may come before the Panel participants for discussion, those issues may not be the subject of formal Joint Canada-U.S. Review Panel action during this meeting. Panel action will be restricted to those issues specifically listed in this notice and any issues arising after publication of this notice that require emergency action under Section 305(c) of the Magnuson-Stevens Fishery Conservation and Management Act, provided the public has been notified of the Panel participants( intent to take final action to address the emergency.

Special Accommodations

This meeting is physically accessible to people with disabilities. Requests for sign language interpretation or other auxiliary aids should be directed to Ms. Carolyn Porter at (503) 820-2280 at least 5 days prior to the meeting date.

Dated: January 7, 2009.
Tracey L. Thompson,
Acting Director, Office of Sustainable Fisheries, National Marine Fisheries Service.

[FR Doc. E9-326 Filed 1-9-09; 8:45 am]

BILLING CODE 3510-22-S